DEPARTMENT OF LABOR

Employment and Training Administration

[TA-W-52,833]

The Owenby Company Including Workers Whose Wages Were Paid By Skilstaf, Inc., Blairsville, GA; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on September 29, 2003, applicable to workers of The Owenby Company, Blairsville, Georgia. The notice was published in the Federal Register on November 6, 2003 (68 FR 62833).

At the request of the State agency, the Department reviewed the certification for workers of the subject firm. The workers were engaged in the production of tee shirts.

Information provided by the State agency shows that Skilstaf, Inc. was contracted by The Owenby Company to provide payroll function services to workers on-site at the Blairsville, Georgia location of The Owenby Company.

Information also shows that all workers separated from employment at the subject firm had their wages reported under a separate unemployment insurance (UI) tax account for Skilstaf, Inc.

Based on these findings, the Department is amending this certification to include workers whose wages were reported by Skilstaf, Inc. at The Owenby Company, Blairsville, Georgia.

The intent of the Department's certification is to include all workers of The Owenby Company who was adversely affected by increased imports.

The amended notice applicable to TA-W-52,833 is hereby issued as follows:

All workers of The Owenby Company, including workers whose wages were reported by Skilstaf, Inc., Blairsville, Georgia, who became totally or partially separated from employment on or after September 2, 2002, through September 29, 2005, are eligible to apply for adjustment assistance under Section 223 of the Trade Act of 1974 and are also eligible to apply for alternative trade adjustment assistance under Section 246 of the Trade Act of 1974.

Signed at Washington, DC, this 29th day of March, 2005.
Richard Church,
Certifying Officer, Division of Trade Adjustment Assistance.

[FR Doc. E5-1524 Filed 4-4-05; 8:45 am]

BILLING CODE 4510-30-P